DEPARTMENT OF HOMELAND SECURITY

Federal Emergency Management Agency

44 CFR Part 67

[Docket ID FEMA-2011-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Franklin County, Arkansas, and Incorporated Areas
Docket Nos.: FEMA-B-1068 and FEMA-B-1089
Arkansas River | Approximately 412 feet downstream of the confluence with Mikes Creek | +367 | Unincorporated Areas of Franklin County.
| Approximately 0.52 mile upstream of the confluence with Mikes Creek | +367
Flooding effects of Arkansas River into a previous shaded X zone downstream of the confluence of White Oak Creek | Approximately 682 feet downstream of Missouri Pacific Railroad | +382 | Unincorporated Areas of Franklin County.
| Just downstream of Missouri Pacific Railroad | +382
Flooding effects of Arkansas River into a previous shaded X zone downstream of the confluence of White Oak Creek | Approximately 0.5 mile downstream of Missouri Pacific Railroad | +381 | Unincorporated Areas of Franklin County.
| Just downstream of Missouri Pacific Railroad | +381
Mulberry River | Just upstream of Union Pacific Railroad | +392 | Unincorporated Areas of Franklin County.
| Just downstream of I-40 | +410
Smith Creek | Just upstream of the confluence with Unnamed Tributary | +365 | Unincorporated Areas of Franklin County.
| Approximately 1.02 miles upstream of the confluence with Unnamed Tributary | +365
Unnamed Tributary | Just upstream of the confluence with Smith Creek | +365 | Unincorporated Areas of Franklin County.
| Approximately 0.55 mile upstream of the confluence with Smith Creek | +365
White Oak Creek | Approximately 0.62 mile downstream of Union Pacific Railroad | +393 | Unincorporated Areas of Franklin County.
| Approximately 1,865 feet upstream of Union Pacific Railroad | +393
* National Geodetic Vertical Datum.
+ North American Vertical Datum.
# Depth in feet above ground.
‸ Mean Sea Level, rounded to the nearest 0.1 meter.
ADDRESSES
Unincorporated Areas of Franklin County
Maps are available for inspection at 211 West Commercial Street, Ozark, AR 72949.
Bureau County, Illinois, and Incorporated Areas
Docket No.: FEMA-B-1110
Illinois River | Approximately 1.38 miles downstream of I-180 | +462 | City of Spring Valley, Unincorporated Areas of Bureau County, Village of Bureau Junction, Village of De Pue.
| Approximately 2.05 miles upstream of State Highway 89 | +463
* National Geodetic Vertical Datum.
+ North American Vertical Datum.
# Depth in feet above ground.
‸ Mean Sea Level, rounded to the nearest 0.1 meter.
ADDRESSES
City of Spring Valley
Maps are available for inspection at City Hall, 215 North Greenwood Street, Spring Valley, IL 61362.
Unincorporated Areas of Bureau County
Maps are available for inspection at the Bureau County Courthouse, 700 South Main Street, Princeton, IL 61356.
Village of Bureau Junction
Maps are available for inspection at the Bureau Junction Village Hall, 101 East Nebraska Street, Bureau, IL 61315.
Village of De Pue
Maps are available for inspection at the Village Hall, 111 West 2nd Street, De Pue, IL 61322.
Knox County, Illinois, and Incorporated Areas
Docket No.: FEMA-B-1105
Cedar Creek | Approximately 0.51 mile upstream of West Knox Road | +731 | City of Galesburg, Unincorporated Areas of Knox County.
| Approximately 350 feet upstream of Farnham Street | +777
Spoon River | Approximately 0.47 mile downstream of Knox County Highway 39 | +537 | Unincorporated Areas of Knox County.
| Approximately 0.39 mile upstream of Knox County Highway 39 | +538
Tributary to Swegle Creek | Approximately 1,200 feet upstream of Terwilliger Street extended | +539 | Unincorporated Areas of Knox County.
| Approximately 1,260 feet upstream of Terwilliger Street extended | +539
* National Geodetic Vertical Datum.
+ North American Vertical Datum.
# Depth in feet above ground.
‸ Mean Sea Level, rounded to the nearest 0.1 meter.
ADDRESSES
City of Galesburg
Maps are available for inspection at City Hall, 55 West Tompkins Street, Galesburg, IL 61401.
Unincorporated Areas of Knox County
Maps are available for inspection at the Knox County Courthouse, 200 South Cherry Street, Galesburg, IL 61401.
Elkhart County, Indiana, and Incorporated Areas
Docket No.: FEMA-B-1016
Cobus Creek | At County Road 6 | +765 | Unincorporated Areas of Elkhart County.
| Approximately 3,370 feet upstream of County Road 2 | +789
Haverstick Ditch/Darkwood Ditch | Just upstream of the confluence with Berlin Court Ditch | +835 | Unincorporated Areas of Elkhart County.
| Approximately 3,550 feet upstream of County Road 7 | +862
Hoke Ditch | At the confluence with Yellow Creek | +782 | Unincorporated Areas of Elkhart County.
| At State Road 19 | +797
Horn Ditch | At the confluence with Rock Run Creek | +799 | City of Goshen, Unincorporated Areas of Elkhart County.
| At County Road 33 | +825
Little Elkhart River | Approximately 1,500 feet downstream of County Road 131 | +774 | Unincorporated Areas of Elkhart County.
| At the LaGrange County boundary | +842
Mather Ditch | Approximately 900 feet upstream of the confluence with the Little Elkhart River | +816 | Town of Middlebury, Unincorporated Areas of Elkhart County.
| Approximately 350 feet upstream of County Road 43 | +844
Pine Creek | Approximately 120 feet downstream of State Road 15 | +807 | Unincorporated Areas of Elkhart County.
| At County Road 35 | +886
Rock Run Creek | Approximately 200 feet upstream of the confluence with the Elkhart River | +779 | City of Goshen, Unincorporated Areas of Elkhart County.
| At County Road 35 | +846
Werntz Ditch | At the confluence with Baugo Creek | +810 | Town of Wakarusa, Unincorporated Areas of Elkhart County.
| Approximately 900 feet upstream of Industrial Parkway | +853
* National Geodetic Vertical Datum.
+ North American Vertical Datum.
# Depth in feet above ground.
‸ Mean Sea Level, rounded to the nearest 0.1 meter.
ADDRESSES
City of Goshen
Maps are available for inspection at the Department of Planning and Zoning, 204 East Jefferson Street, Suite 4, Goshen, IN 46528.
Town of Middlebury
Maps are available for inspection at the Town Hall, 418 North Main Street, Middlebury, IN 46540.
Town of Wakarusa
Maps are available for inspection at the Town Hall, 100 West Waterford Street, Wakarusa, IN 46573.
Unincorporated Areas of Elkhart County
Maps are available for inspection at the Elkhart County Public Services Building, 4230 Elkhart Road, Goshen, IN 46526.
Des Moines County, Iowa, and Incorporated Areas
Docket No.: FEMA-B-1093
Mississippi River | Approximately 6.6 miles upstream of Burlington Northern Railroad | +532 | City of Burlington, Unincorporated Areas of Des Moines County.
| Approximately 13.7 miles upstream of Lock and Dam No. 18 | +543
Spring Creek | Approximately 0.6 mile downstream of Summer Street | +533 | Unincorporated Areas of Des Moines County.
| Approximately 0.5 mile downstream of Summer Street | +534
Unnamed Tributary (backwater effects from Long Creek) | Approximately 1,100 feet upstream of the confluence with Long Creek | +700 | City of Danville.
| Approximately 1,400 feet upstream of the confluence with Long Creek | +700
* National Geodetic Vertical Datum.
+ North American Vertical Datum.
# Depth in feet above ground.
‸ Mean Sea Level, rounded to the nearest 0.1 meter.
ADDRESSES
City of Danville
Maps are available for inspection at City Hall, 105 West Shepherd Street, Danville, IA 52623.
City of Burlington
Maps are available for inspection at City Hall, 400 Washington Street, Burlington, IA 52601.
Unincorporated Areas of Des Moines County
Maps are available for inspection at 200 North Front Street, Suite 400, Burlington, IA 52601.
Iowa County, Iowa, and Incorporated Areas
Docket No.: FEMA-B-1089
Old Mans Creek | Approximately 1,800 feet downstream of the corporate limits of the City of Williamsburg | +754 | Unincorporated Areas of Iowa County.
| At the southernmost corporate limit of the City of Williamsburg | +756
| Approximately 2,600 feet upstream of State Route 149 | +765
| Approximately 3,800 feet upstream of State Route 149 | +766
* National Geodetic Vertical Datum.
+ North American Vertical Datum.
# Depth in feet above ground.
‸ Mean Sea Level, rounded to the nearest 0.1 meter.
ADDRESSES
Unincorporated Areas of Iowa County
Maps are available for inspection at 970 Court Avenue, Marengo, IA 52301.
Woodford County, Kentucky, and Incorporated Areas
Docket No.: FEMA-B-1117
Brushy Run (backwater effects from Kentucky River) | From the confluence with the Kentucky River to approximately 0.4 mile upstream of the confluence with the Kentucky River | +542 | Unincorporated Areas of Woodford County.
Bucks Run (backwater effects from Kentucky River) | From the confluence with the Kentucky River to approximately 125 feet downstream of Buck Run Road | +519 | Unincorporated Areas of Woodford County.
Clear Creek (backwater effects from Kentucky River) | From the confluence with the Kentucky River to approximately 2.5 miles upstream of the confluence with the Kentucky River | +531 | Unincorporated Areas of Woodford County.
Craig Creek (backwater effects from Kentucky River) | From the confluence with the Kentucky River to approximately 1,220 feet upstream of Gun Club Road | +527 | Unincorporated Areas of Woodford County.
Glenns Creek (backwater effects from Kentucky River) | From the confluence with the Kentucky River to approximately 1.2 miles upstream of the confluence with the Kentucky River | +513 | Unincorporated Areas of Woodford County.
Grier Creek (backwater effects from Kentucky River) | From the confluence with the Kentucky River to approximately 200 feet downstream of Shryocks Ferry Road | +524 | Unincorporated Areas of Woodford County.
Kentucky River | Approximately 2.3 miles downstream of the confluence with Kentucky River Tributary 92 | +514 | Unincorporated Areas of Woodford County.
| Approximately 5.0 miles upstream of the confluence with Kentucky River Tributary 5 | +547
Kentucky River Tributary 5 (backwater effects from Kentucky River) | From the confluence with the Kentucky River to approximately 950 feet upstream of the confluence with the Kentucky River | +543 | Unincorporated Areas of Woodford County.
Kentucky River Tributary 84 (backwater effects from Kentucky River) | From the confluence with the Kentucky River to approximately 510 feet upstream of the confluence with the Kentucky River | +539 | Unincorporated Areas of Woodford County.
Kentucky River Tributary 92 (backwater effects from Kentucky River) | From the confluence with the Kentucky River to approximately 1,770 feet upstream of the confluence with the Kentucky River | +515 | Unincorporated Areas of Woodford County.
Lee Branch | Just upstream of Leestown Pike | +780 | City of Midway, Unincorporated Areas of Woodford County.
| Approximately 860 feet upstream of Old Frankfort Pike | +827
Lee Branch Tributary 4 (backwater effects from Lee Branch) | From the confluence with Lee Branch to approximately 720 feet upstream of the confluence with Lee Branch | +810 | Unincorporated Areas of Woodford County.
Lee Branch Tributary 6 (backwater effects from Lee Branch) | From the confluence with Lee Branch to approximately 1,145 feet upstream of the confluence with Lee Branch | +802 | City of Midway, Unincorporated Areas of Woodford County.
Lee Branch Tributary 7 (backwater effects from Lee Branch) | From the confluence with Lee Branch to approximately 351 feet upstream of Midway College Road | +802 | City of Midway, Unincorporated Areas of Woodford County.
* National Geodetic Vertical Datum.
+ North American Vertical Datum.
# Depth in feet above ground.
‸ Mean Sea Level, rounded to the nearest 0.1 meter.
ADDRESSES
City of Midway
Maps are available for inspection at City Hall, 101 East Main Street, Midway, KY 40347.
Unincorporated Areas of Woodford County
Maps are available for inspection at the Woodford County Courthouse, 103 South Main Street, Versailles, KY 40383.
Baltimore County, Maryland (Unincorporated Areas)
Docket No.: FEMA-B-1098
Gwynns Falls | Just downstream of the confluence with Red Run | +441 | Unincorporated Areas of Baltimore County.
| Approximately 1,300 feet downstream of Painters Mill Road | +446
Roland Run | Approximately 1,166 feet upstream of Joppa Road | +261 | Unincorporated Areas of Baltimore County.
| Approximately 810 feet downstream of Essex Farm Road | +262
* National Geodetic Vertical Datum.
+ North American Vertical Datum.
# Depth in feet above ground.
‸ Mean Sea Level, rounded to the nearest 0.1 meter.
ADDRESSES
Unincorporated Areas of Baltimore County
Maps are available for inspection at the Baltimore County Office Building, 111 West Chesapeake Avenue, Suite 307, Towson, MD 21204.
Attala County, Mississippi, and Incorporated Areas
Docket No.: FEMA-B-1122
Canal Creek | Approximately 700 feet downstream of Jefferson Street | +404 | City of Kosciusko.
| Approximately 500 feet downstream of Veterans Memorial Highway | +411
* National Geodetic Vertical Datum.
+ North American Vertical Datum.
# Depth in feet above ground.
‸ Mean Sea Level, rounded to the nearest 0.1 meter.
ADDRESSES
City of Kosciusko
Maps are available for inspection at 222 East Washington Street, Kosciusko, MS 39090.
Perry County, Missouri, and Incorporated Areas
Docket No.: FEMA-B-1120
Apple Creek | At the dam/unnamed road crossing approximately 300 feet downstream of U.S. Route 61 | +399 | Unincorporated Areas of Perry County.
| Approximately 250 feet upstream of U.S. Route 61 | +403
Apple Creek (backwater effects from Mississippi River) | From the confluence with the Mississippi River to approximately 3.6 miles upstream of the confluence with the Mississippi River | +368 | Unincorporated Areas of Perry County.
Apple Creek Tributary 3 (backwater effects from Mississippi River) | From the confluence with Apple Creek upstream to County Road 456 | +368 | Unincorporated Areas of Perry County.
Blue Spring Branch (backwater effects from Mississippi River) | From the confluence with the Mississippi River to approximately 1.1 miles upstream of Christian Street | +390 | Town of Lithium, Unincorporated Areas of Perry County.
Blue Spring Branch Tributary 1 (backwater effects from Mississippi River) | From the confluence with Blue Spring Branch to approximately 0.5 mile upstream of County Road 926 | +390 | Unincorporated Areas of Perry County.
Blue Spring Branch Tributary 3 (backwater effects from Mississippi River) | From the confluence with Blue Spring Branch to approximately 0.4 mile upstream of County Road 916 | +390 | Unincorporated Areas of Perry County.
Brazeau Creek (backwater effects from Mississippi River) | From the confluence with the Mississippi River to approximately 1.0 mile upstream of County Road 446 | +372 | Unincorporated Areas of Perry County.
Brazeau Creek Tributary 3 (backwater effects from Mississippi River) | From the confluence with Brazeau Creek to approximately 0.5 mile upstream of County Road 438 | +372 | Unincorporated Areas of Perry County.
Brazeau Creek Tributary 5 (backwater effects from Mississippi River) | From the confluence with Brazeau Creek to approximately 250 feet upstream of Missouri Route A | +372 | Unincorporated Areas of Perry County.
Christenson Branch Creek (backwater effects from Mississippi River) | From the confluence with the Mississippi River to approximately 350 feet upstream of the confluence with McClanahan Creek | +385 | Unincorporated Areas of Perry County.
Cinque Hommes Creek (backwater effects from Mississippi River) | From the confluence with the Mississippi River to approximately 3 miles upstream of County Road 322 | +384 | Unincorporated Areas of Perry County.
Clines Branch (backwater effects from Mississippi River) | From the confluence with the Mississippi River to approximately 1,400 feet downstream of the intersection of Missouri Route D and County Road 438 | +378 | Unincorporated Areas of Perry County.
Doodlebug Branch (backwater effects from Mississippi River) | From the confluence with Cinque Hommes Creek to approximately 4,000 feet upstream of the confluence with Cinque Hommes Creek | +382 | Unincorporated Areas of Perry County.
Dry Fork (backwater effects from Mississippi River) | From the confluence with Cinque Hommes Creek to approximately 1.4 miles upstream of the confluence with Cinque Hommes Creek | +384 | Unincorporated Areas of Perry County.
Dry Fork Tributary 1 (backwater effects from Mississippi River) | From the confluence with Dry Fork to approximately 0.6 mile upstream of the confluence with Dry Fork | +384 | Unincorporated Areas of Perry County.
Falls Branch (backwater effects from Mississippi River) | From the confluence with Blue Spring Branch to approximately 0.8 mile upstream of Missouri Route M | +390 | Unincorporated Areas of Perry County.
McClanahan Creek (backwater effects from Mississippi River) | From the confluence with Christenson Branch Creek to approximately 0.9 mile upstream of the confluence with Christenson Branch Creek | +385 | Unincorporated Areas of Perry County.
Mississippi River | At the Cape Girardeau County boundary | +368 | Town of Lithium, Unincorporated Areas of Perry County.
| At the Ste. Genevieve County boundary | +391
Mississippi River Tributary 21 (backwater effects from Mississippi River) | From the confluence with the Mississippi River to approximately 0.45 mile upstream of the confluence with the Mississippi River | +376 | Unincorporated Areas of Perry County.
Mississippi River Tributary 25 (backwater effects from Mississippi River) | From the confluence with the Mississippi River to approximately 0.8 mile upstream of the confluence with the Mississippi River | +378 | Unincorporated Areas of Perry County.
Omete Creek (backwater effects from Mississippi River) | From the confluence with Cinque Hommes Creek to approximately 1 mile upstream of County Road 340 | +380 | Unincorporated Areas of Perry County.
Omete Creek Tributary 2 (backwater effects from Mississippi River) | From the confluence with Omete Creek to approximately 0.73 mile upstream of the confluence with Omete Creek | +380 | Unincorporated Areas of Perry County.
Owl Creek (backwater effects from Mississippi River) | From the confluence with the Mississippi River to approximately 2.2 miles upstream of the confluence with the Mississippi River | +373 | Unincorporated Areas of Perry County.
Patton Creek (backwater effects from Mississippi River) | From the confluence with the Mississippi River to approximately 0.76 mile upstream of the confluence with the Mississippi River | +369 | Unincorporated Areas of Perry County.
Patton Creek Tributary 1 (backwater effects from Mississippi River) | From the confluence with the Mississippi River to approximately 1.2 miles upstream of the confluence with the Mississippi River | +370 | Unincorporated Areas of Perry County.
Saint Laurent Creek (backwater effects from Mississippi River) | From the county boundary to approximately 1.2 miles upstream of Missouri Route H | +391 | Unincorporated Areas of Perry County.
* National Geodetic Vertical Datum.
+ North American Vertical Datum.
# Depth in feet above ground.
‸ Mean Sea Level, rounded to the nearest 0.1 meter.
ADDRESSES
Town of Lithium
Maps are available for inspection at 321 North Main Street, Suite 5, Perryville, MO 63775.
Unincorporated Areas of Perry County
Maps are available for inspection at 321 North Main Street, Suite 5, Perryville, MO 63775.
Miami County, Ohio, and Incorporated Areas
Docket No.: FEMA-B-1120
Great Miami River | Approximately 1.0 mile upstream of Peterson Road | +854 | City of Piqua.
| Approximately 1.1 miles upstream of County Highway 25A | +866
Great Miami River | At the Montgomery County boundary | +791 | City of Tipp City, Unincorporated Areas of Miami County.
| At State Highway 571 | +791
Hatfield Ditch | Approximately 750 feet upstream of Main Street | +914 | Unincorporated Areas of Miami County.
| Approximately 2,000 feet upstream of Main Street | +931
Staunton Tributary | Approximately 1,865 feet downstream of Old Staunton Road | +825 | City of Troy, Unincorporated Areas of Miami County.
| Approximately 350 feet downstream of Stonyridge Avenue | +830
Stillwater River | At the Montgomery County boundary | +832 | City of Union, Unincorporated Areas of Miami County, Village of West Milton.
| Approximately 0.8 mile downstream of State Highway 55 | +832
* National Geodetic Vertical Datum.
+ North American Vertical Datum.
# Depth in feet above ground.
‸ Mean Sea Level, rounded to the nearest 0.1 meter.
ADDRESSES
City of Piqua
Maps are available for inspection at 201 West Water Street, Piqua, OH 45356.
City of Tipp City
Maps are available for inspection at 260 South Garber Drive, Tipp City, OH 45371.
City of Troy
Maps are available for inspection at City Hall, 100 South Market Street, Troy, OH 45373.
City of Union
Maps are available for inspection at 118 North Main Street, Union, OH 45322.
Unincorporated Areas of Miami County
Maps are available for inspection at 201 West Main Street, Troy, OH 45373.
Village of West Milton
Maps are available for inspection at 701 South Miami Street, West Milton, OH 45383.
Union County, South Carolina, and Incorporated Areas
Docket No.: FEMA-B-1108
Broad River | Approximately 10 feet downstream of State Highway 49 | +367 | Township of Lockhart.
| Approximately 1.1 miles upstream of State Highway 49 | +412
Canal | Approximately 28 feet downstream of State Highway 49 | +393 | Township of Lockhart.
| Just downstream of Lockhart Dam | +409
* National Geodetic Vertical Datum.
+ North American Vertical Datum.
# Depth in feet above ground.
‸ Mean Sea Level, rounded to the nearest 0.1 meter.
ADDRESSES
Township of Lockhart
Maps are available for inspection at the Town Hall, 118 Mill Street, Lockhart, SC 29364.
Taylor County, West Virginia, and Incorporated Areas
Docket No.: FEMA-B-1115
Booths Creek | Just downstream of the county boundary | +959 | Unincorporated Areas of Taylor County.
| At the confluence with Corbin Branch and Thomas Fork | +1000
Corbin Branch | At the confluence with Booths Creek and Thomas Fork | +1000 | Unincorporated Areas of Taylor County.
| Approximately 300 feet downstream of Nuzum Road | +1082
* National Geodetic Vertical Datum.
+ North American Vertical Datum.
# Depth in feet above ground.
‸ Mean Sea Level, rounded to the nearest 0.1 meter.
ADDRESSES
Unincorporated Areas of Taylor County
Maps are available for inspection at the Taylor County Courthouse, 214 West Main Street, Grafton, WV 26354.
Manitowoc County, Wisconsin, and Incorporated Areas
Docket No.: FEMA-B-1095
Centerville Creek | Approximately 0.25 mile downstream of West Washington Avenue | +682 | Village of Cleveland.
| Approximately 380 feet downstream of West Washington Avenue | +688
Little Manitowoc River | Approximately 0.47 mile downstream of Goodwin Road | +626 | City of Manitowoc.
| At Goodwin Road | +643
Sheboygan River | At State Highway 67/32 | +882 | City of Kiel.
| Approximately 0.25 mile upstream of State Highway 67/32 | +884
* National Geodetic Vertical Datum.
+ North American Vertical Datum.
# Depth in feet above ground.
‸ Mean Sea Level, rounded to the nearest 0.1 meter.
ADDRESSES
City of Kiel
Maps are available for inspection at 621 6th Street, Kiel, WI 53042.
City of Manitowoc
Maps are available for inspection at 900 Quay Street, Manitowoc, WI 54220.
Village of Cleveland
Maps are available for inspection at 1150 West Washington Street, Cleveland, WI 53015.

(Catalog of Federal Domestic Assistance No. 97.022, “Flood Insurance.”)

Dated: June 23, 2011.
Sandra K. Knight,
Deputy Federal Insurance and Mitigation Administrator, Mitigation, Department of Homeland Security, Federal Emergency Management Agency.

[FR Doc. 2011-16896 Filed 7-5-11; 8:45 am]

BILLING CODE 9110-12-P